DEPARTMENT OF ENERGY

Federal Energy Regulatory Commission

[Project Nos. 2322-069; 2322071; 2325-100; 2574-092; 2611-091]

Brookfield White Pine Hydro, LLC; Merimil Limited Partnership; Hydro-Kennebec, LLC; Notice of Supplemental Information Filing and Soliciting Comments

Take notice that the following supplemental information has been filed with the Commission and is available for public inspection.

a. Type of Application: Supplemental information to pending filings regarding salmon mortality and protective measures.

b. Project Nos.: P-2322-069; P-2322-071; P-2325-100; P-2574-092; P-2611-091.

c. Date Filed: September 21, 2022.

d. Applicants: Brookfield White Pine Hydro, LLC; Merimil Limited Partnership; Hydro-Kennebec, LLC.

e. Name of Projects: Shawmut, Weston, Lockwood, and Hydro-Kennebec Hydroelectric Projects.

f. Location: The projects are located on the lower Kennebec River in Kennebec and Somerset Counties, Maine.

g. Filed Pursuant to: Federal Power Act, 16 U.S.C. 791a-825r.

h. Applicant Contact: Kelly Maloney, Licensing and Compliance Manager, Brookfield White Pine Hydro, LLC., 150 Main Street, Lewiston, ME 04240; telephone: (207) 755-5605.

i. FERC Contact: Marybeth Gay, (202) 502-6125, Marybeth.Gay@ferc.gov; or Matt Cutlip, (503) 552-2762, Matt.Cutlip@ferc.gov.

j. Deadline for filing comments: 20 days from the notice date. Reply comments due 30 days from the notice date.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2322-069; P-2322-071; P-2325-100; P-2574-092; and P-2611-091.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Filing: On September 21, 2022, Brookfield Power US Asset Management, LLC (Brookfield), on behalf of the affiliated licensees for the Shawmut (P-2322), Weston (P-2325), Lockwood (P-2574), and Hydro-Kennebec (P-2611) projects, filed supplemental information for the following pending items: (1) the January 31, 2020 Final License Application for the Shawmut Project; (2) the June 1, 2021 Interim Species Protection Plan (Interim Plan) for the Shawmut Project; and (3) the June 1, 2021 Final Species Protection Plan (Final Plan) for the Lockwood, Weston, and Hydro-Kennebec projects.

Brookfield states that, while conducting its analysis of the Final Plan, Interim Plan, and their associated Biological Assessments, the National Marine Fisheries Service (NMFS) requested that Brookfield better address delayed mortality for salmon smolts passing downstream of the first receiver at each of the projects. Brookfield's filing contains that analysis. Further, Brookfield states that it and NMFS evaluated measures previously contemplated within the adaptive management provisions included as part of the Final Plan, Interim Plan, and relicensing proceeding, which could be implemented on an accelerated schedule to minimize and/or mitigate the effects of delayed mortality.

Based on these discussions, Brookfield now proposes to implement several measures from the adaptive management provisions proposed in the Final Plan to improve smolt survival during spill and through the fishways as well as reduce entrainment, as appropriate, for each of the specific projects. Brookfield states that it would implement these measures concurrently with, or in advance of, the other actions proposed in the Final Plan.

Similarly, as a supplement to the final license application for the Shawmut Project, Brookfield now proposes to add measures to reduce entrainment, provide safe downstream passage routes, and improve smolt passage survival conditions during spill. Brookfield also says that it may seek Commission authorization to implement these newly proposed measures in advance of the Commission's licensing decision.

Brookfield additionally proposes mitigation measures, including the funding of habitat restoration projects within the Kennebec River watershed and Merrymeeting Bay Salmon Habitat Recovery Unit, as discussed in the Final Plan. Brookfield also commits to stocking smolts in the Sandy River for up to 6 years to support studies to verify compliance with the proposed upstream and downstream passage standards, as discussed in the Final Plan.

l. Location of Filing: A copy of the supplemental information can be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

Dated: October 5, 2022.
Kimberly D. Bose,
Secretary.

[FR Doc. 2022-22171 Filed 10-12-22; 8:45 am]

BILLING CODE 6717-01-P